FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011539-019.

Title: HLAG/NYK/MSC Vessel Sharing Agreement.

Parties: Companhia Libra de Navegacao; Comania Libra de Navegacion Uruguay S.A.; Hapag-Lloyd AG; Nippon Yusen Kaisha; and MSC Mediterranean Shipping Company SA.

Filing Party: Wayne R. Rohde, Esq.; Cozen O'Connor, 1627 I Street NW.; Washington, DC 20006.

Synopsis: The Amendment would add MSC as a party to the agreement and change the vessel provision and space allocation accordingly. It would also revise the duration of the agreement, restate the agreement, and make other corresponding changes.

Agreement No.: 012334.

Title: Hyundai Glovis/Hoegh Transpacific Westbound Space Charter Agreement.

Parties: Hoegh Autoliners AS and Hyundai Glovis Co. Ltd.

Filing Party: Wayne R. Rohde, Esq.; Cozen O'Conner; 1627 I Street NW., Suite 1100; Washington, DC 20006-4007.

Synopsis: The agreement authorizes the parties to charter space to one another for the transport of vehicles from the U.S. West Coast to China and Japan.

Agreement No.: 012335.

Title: Gulf Coast/ECSA Vessel Sharing Agreement.

Parties: Hamburg Sudamerikanische Dampfschifffahrts-Gesellschaft KG; Alianca Navegacao e Logistica Ltda. e CIA; MSC Mediterranean Shipping Company.

Filing Party: Wayne R. Rohde, Esq.; Cozen O'Conner; 1627 I Street NW., Suite 1100; Washington, DC 20006-4007.

Synopsis: The agreement would authorize the parties to operate a service in the trade between the U.S. Gulf Coast on the one hand, and Panama, Colombia, Brazil, and Mexico on the other hand. The parties have requested expedited review.

Agreement No.: 012336.

Title: Zim/OOCL Space Charter Agreement.

Parties: Zim Integrated Shipping Service Limited and Orient Overseas Container Line Limited.

Filing Party: Wayne R. Rohde, Esq.; Cozen O'Conner; 1627 I Street NW., Suite 1100; Washington, DC 20006-4007.

Synopsis: The agreement authorizes Zim to charter space to OOCL in the trade between China, Vietnam, Singapore, and Sri Lanka on the one hand and the U.S. Atlantic Coast on the other hand.

By Order of the Federal Maritime Commission.
Dated: May 22, 2015.
Karen V. Gregory,
Secretary.

[FR Doc. 2015-12915 Filed 5-27-15; 8:45 am]

BILLING CODE 6730-01-P